DEPARTMENT OF ENERGY

Federal Energy Regulatory Commission

[Docket No. ER97-1523-078, et al.]

New England Independent System Operator, Inc. et al.; Electric Rate and Corporate Filings

July 8, 2003.

The following filings have been made with the Commission. The filings are listed in ascending order within each docket classification.

1. New York Independent System Operator, Inc.

[Docket Nos. ER97-1523-078, OA97-470-070, and ER97-4234-068]

Take notice that on July 2, 2003, the New York Independent System Operator, Inc. (NYISO) filed a compliance report describing the steps it intends to take to ensure that Thunderstorm Alert-related costs are directly assigned to load serving entities in the New York City area.

The NYISO states that copies of this filing have been mailed to all parties listed on the official service lists in Docket Nos. ER97-1523-076, OA97-470-068, and ER97-4234-066 and to all market participants that have executed Service Agreements under the NYISO's Open-Access Transmission Tariff or its Market Administration and Control Area Services Tariff, and to the electric utility regulatory agencies in New York, New Jersey, and Pennsylvania.

Comment Date: July 23, 2003.

2. Lowell Cogeneration Company, Limited Partnership

[Docket No. ER97-2414-005]

Take notice that on July 1, 2003, Lowell Cogeneration Company Limited Partnership (LCCLP) tendered for filing its triennial market power analyses.

Comment Date: July 22, 2003.

3. ISO New England Inc.

[Docket No. ER02-2153-004]

Take notice that on July 1, 2003, ISO New England Inc. submitted a compliance report in this proceeding.

ISO New England Inc., states that copies of said filing have been served upon all parties to this proceeding and the New England utility regulatory agencies, and electronically upon the New England Power Pool participants.

Comment Date: July 22, 2003.

4. Illinova Energy Partners, Inc.

[Docket No. ER03-1000-000]

Take notice that on June 27, 2003, Illinovia Energy Partners, Inc., (IEP) pursuant to Commission's Regulations, 18 CFR 35.15, submitted a Notice of Cancellation of IEP's Market-Based FERC Electric Rate Tariff and all rate schedules and/or service agreements thereunder effective June 30, 2003.

Comment Date: July 18, 2003.

5. PacifiCorp

[Docket No. ER03-1005-000]

Take Notice that on June 30, 2003, PacifiCorp tendered for filing Amendatory Agreement No. 1 (Amendatory Agreement No. 1) to the 1997 Pacific Northwest Coordination Agreement (the 1997 PNCA).

PacifiCorp states that Amendatory Agreement No. 1 amends the 1997 PNCA. PacifiCorp also states that a copy of the filing was served upon the parties to the 1997 PNCA.

Comment Date: July 21, 2003.

6. SmartEnergy, Inc.

[Docket No. ER03-1006-000]

Take notice that on June 30, 2003, SmartEnergy, Inc., (SmartEnergy) tendered for filing a Notice of Cancellation of FERC Rate Schedule No. 1. SmartEnergy states that it has made a decision to cease energy operations.

Comment Date: July 21, 2003.

7. Midwest Energy, Inc.

[Docket No. ER03-1007-000]

Take notice that on June 30, 2003, Midwest Energy, Inc. (Midwest) submitted for filing an Electric Interconnection Contract (Contract) between Midwest and Centel Corporation, now known as Aquila Networks-WPK (Aquila) along with an Amendment No. 1 which provides for the addition of one point of interconnection.

Midwest states that a copy of this filing was served upon the Kansas Corporation Commission and Aquila.

Comment Date: July 21, 2003.

8. Midwest Energy, Inc.

[Docket No. ER03-1008-000]

Take notice that on June 30, 2003, Midwest Energy, Inc. (Midwest) submitted for filing an Electric Interconnection Contract (Contract) between Central Kansas Power Company, Inc., now known as Midwest Energy, Inc. and Westar Energy (Westar). This Interconnection Contract was previously filed by Westar Energy and designated as FPC No. 123 as revised and amended.

Midwest states that a copy of this filing was served upon the Kansas Corporation Commission and Westar.

Comment Date: July 21, 2003.

9. American Transmission Systems, Inc.

[Docket No. ER03-1009-000]

Take notice that on June 30, 2003, American Transmission Systems, Inc. (ATSI) tendered for filing its Service Agreement No. 337, an executed Network Integration Transmission Service Agreement with Buckeye Power, Inc. (Buckeye) under ATSI's Open Access Transmission Tariff, FERC Electric Tariff, Second Revised Volume No. 1. ATSI requests that the agreement be placed in effect on July 1, 2003.

ATSI states that copies of the filing were served upon Buckeye and the Public Utilities Commission of Ohio.

Comment Date: July 21, 2003.

10. NEO California Power LLC

[Docket No. ER03-1010-000]

Take notice that on July 1, 2003, NEO California Power LLC (NEO California) filed with the Federal Energy Regulatory Commission a Must-Run Service Agreement dated June 30, 2003 with the California Independent System Operator Corporation.

Comment Date: July 22, 2003.

11. Southern California Edison Company

[Docket No. ER03-1011-000]

Take notice that on July 1, 2003, Southern California Edison Company (SCE) tendered for filing revised rate sheets (Revised Sheets) to the Agreement For Interconnection Service and the Interconnection Facilities Agreement between SCE and Harbor Cogeneration Company (Harbor), Service Agreement Nos. 2 and 9 under SCE's FERC Electric Tariff, First Revised Volume No. 6. SCE respectfully requests an effective date of June 30, 2003.

SCE states that the Revised Sheets to these agreements reflect an extension of their terms and conditions to provide interconnection service to Harbor's 110 MW generating facility through August 31, 2003. SCE also states that copies of this filing were served upon the Public Utilities Commission of the State of California and Harbor.

Comment Date: July 22, 2003.

12. RAM Energy Products, L.L.C.

[Docket No. ER03-1012-000]

Take notice that on July 1, 2003, RAM Energy Products, L.L.C. submitted for filing, pursuant to Section 205 of the Federal Power Act, and part 35 of the Commission's regulations, an application for authorization to make sales, as a power marketer, of capacity, energy, and certain Ancillary Services at market-based rates; to reassign transmission capacity; and to resell firm transmission rights.

Comment Date: July 22, 2003.

13. New England Power Pool

[Docket No. ER03-1014-000]

Take notice that on July 1, 2003, the New England Power Pool (NEPOOL) Participants Committee filed for acceptance materials to permit NEPOOL to expand its membership to include El Cap II, LLC (El Cap), Split Rock Energy, LLC (Split Rock), and New Hampshire Industries, Inc., (NHI). The Participants Committee requests an effective date of July 1, 2003, for the commencement of participation in NEPOOL by El Cap and Split Rock, and September 1, 2003 for the commencement of participation in NEPOOL as a Governance Only Member by NHI.

The Participants Committee states that copies of these materials were sent to the New England state governors and regulatory commissions and the Participants in NEPOOL.

Comment Date: July 22, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-17848 Filed 7-14-03; 8:45 am]

BILLING CODE 6717-01-P